LEGAL SERVICES CORPORATION

Sunshine Act Meeting

TIME AND DATE: The Legal Services Corporation's Board of Directors will meet remotely on Monday, May 23, 2022. The meeting will commence at 4:00 p.m. EDT, and will continue until the conclusion of the Board's agenda.

PLACE:

Public Notice of Virtual Meeting: LSC will conduct the May 23, 2022 meeting via Zoom.

Public Observation: The Board meeting will be open to public observation via Zoom. Members of the public who wish to participate remotely in the public proceedings may do so by following the directions provided below.

Directions for Open Session

May 23, 2022

• To join the Zoom meeting by computer, please use the below link.

Link:

• https://lsc-gov.zoom.us/j/85232217382?pwd=TExpT0ZvcnlpWFRSRzR1S21BZWM3UT09&from=addon

○ Meeting ID: 852 3221 7382

○ Passcode: 52322

• To join the Zoom meeting with one tap from your mobile phone, please click dial:

○ +13017158592,,85232217382# U.S. (Washington DC)

○ +13126266799,,85232217382# U.S. (Chicago)

• To join the Zoom meeting by telephone, please dial one of the following numbers:

○ Dial by your location

○ +1 301 715 8592 U.S. (Washington DC)

○ +1 312 626 6799 U.S. (Chicago)

○ +1 646 876 9923 U.S. (New York)

○ +1 408 638 0968 U.S. (San Jose)

○ +1 669 900 6833 U.S. (San Jose)

○ +1 253 215 8782 U.S. (Tacoma)

○ +1 346 248 7799 U.S. (Houston)

○ Meeting ID: 852 3221 7382

○ Passcode: 52322

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open.

MATTERS TO BE CONSIDERED:

1. Approval of agenda

2. Approval of minutes of the Board's Open Session meeting on April 5, 2022

3. Presentation of the Fiscal Year 2021 IRS Form 990 (Filed May 16, 2022)

• Debbie Moore, Chief Financial Officer and Treasurer

4. Consider and Act on Resolution #2022-XXX, Acceptance of the Draft Audited Financial Statements for Fiscal Years 2021 and 2022

5. Consider and act on the Board of Directors' transmittal letter to accompany the Inspector General's Semiannual Report to Congress for the period of October 1, 2021 through March 31, 2022

• Ron Flagg, President

• Roxanne Caruso, Acting Inspector General

6. Public comment

7. Consider and act on other business

8. Consider and act on adjournment of meeting

CONTACT PERSON FOR MORE INFORMATION: Kaitlin Brown, Executive and Board Project Coordinator, at (202) 295-1555. Questions may also be sent by electronic mail to brownk@lsc.gov.

Non-Confidential Meeting Materials: Non-confidential meeting materials will be made available in electronic format at least 24 hours in advance of the meeting on the LSC website, at https://www.lsc.gov/about-lsc/board-meeting-materials.

Dated: May 11, 2022.
Kaitlin D. Brown,
Executive and Board Project Coordinator, Legal Services Corporation.

[FR Doc. 2022-10482 Filed 5-11-22; 4:15 pm]

BILLING CODE 7050-01-P